DEPARTMENT OF HEALTH AND HUMAN SERVICES

National Institutes of Health

National Institute of Mental Health; Notice of Meeting

Pursuant to section 10(a) of the Federal Advisory Committee Act, as amended (5 U.S.C. Appendix 2), notice is hereby given of a meeting of the Interagency Autism Coordinating Committee.

The meeting will be open to the public, with attendance limited to space available. Individuals who plan to attend and need special assistance, such as sign language interpretation or other reasonable accommodations, should inform the Contact Person listed below at least 5 business days in advance of the meeting.

Name of Committee: Interagency Autism Coordinating Committee (IACC).

Date: November 21, 2008.

Time: 9 a.m. to 4 p.m.

Agenda: To finalize the Strategic Plan for Autism Spectrum Disorder (ASD) Research and discuss services and supports for individuals and families affected by ASD.

Place: Ronald Reagan Building and International Trade Center, The Rotunda Room, 1300 Pennsylvania Ave. NW., Washington, DC 20004.

Registration: In Person: A registration link for the meeting is available at the following web address: https://guest.cvent.com/EVENTS/Register/IdentityConfirmation.­aspx?e=69c15884-4164-4680-b17c-ada6d72f694a.

Webinar: https://www1.gotomeeting.com/register/471694223.

Conference Call: USA/Canada Phone Number: 888-455-2920, International Phone Number: 212-287-1838, Access Number: 3857872.

Contact Person: Lina Perez, Office of Autism Research Coordination, Office of the Director, National Institute of Mental Health, NIH, 6001 Executive Boulevard, Bethesda, MD 20892-9669, (301) 443-6040, IACCpublicinquiries@mail.nih.gov.

Any member of the public interested in presenting oral comments to the Committee should notify the Contact Person listed on this notice at least 10 days in advance of the meeting. Interested individuals and representatives of organizations should submit a letter of intent, a brief description of the organization represented, and a written copy of the oral presentation in advance of the meeting. Only one representative of an organization will be allowed to present oral comments and presentations will be limited to a maximum of five minutes. Both printed and electronic copies are requested for the record. In addition, any interested person may file written comments with the Committee by forwarding the statement to the Contact Person listed on this notice. The statement should include the name, address, telephone number and when applicable, the business or professional affiliation of the interested person.

Members of the public who wish to participate using the conference call phone number will be able to listen to the meeting but will not be heard. If you experience any technical problems with the web presentation tool, please contact GoToWebinar at 800-263-6317.

To access the web presentation tool on the Internet, the following computer capabilities are required: (A) Internet Explorer 5.0 or later, Netscape Navigator 6.0 or later or Mozilla Firefox 1.0 or later; (B) Windows® 2000, XP Home, XP Pro, 2003 Server or Vista; (C) Stable 56k, cable modem, ISDN, DSL or better Internet connection; (D) Minimum of Pentium 400 with 256 MB of RAM (Recommended); (E) Java Virtual Machine enabled (Recommended).

Information about the IACC is available on the Web site: http://www.nimh.nih.gov/research-funding/scientific-meetings/recurring-meetings/iacc/index.shtml.

(Catalogue of Federal Domestic Assistance Program Nos. 93.242, Mental Health Research Grants; 93.281, Scientist Development Award, Scientist Development Award for Clinicians, and Research Scientist Award; 93.282, Mental Health National Research Service Awards for Research Training, National Institutes of Health, HHS)

Dated: October 14, 2008.
Jennifer Spaeth,
Director, Office of Federal Advisory Committee Policy.

[FR Doc. E8-25024 Filed 10-20-08; 8:45 am]

BILLING CODE 4140-01-P